DEPARTMENT OF THE INTERIOR

Bureau of Land Management

[LLCAN00000.L18200000.XZ0000]

Notice of Public Meeting: Northeast California Resource Advisory Council

AGENCY: Bureau of Land Management, Interior.

ACTION: Notice of Public Meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The RAC will meet Wednesday and Thursday, Sept. 9 and 10, 2009, at the BLM Eagle Lake Field Office, 2950 Riverside Dr., Susanville, Calif. On Sept. 9, the council meets at 10 a.m. for a field tour of public lands managed by the Eagle Lake Field Office. Members of the public are welcome; they must provide their own transportation and lunch. On Sept. 10, the meeting begins at 8 a.m. in the Conference Room of the Eagle Lake Field Office, and is open to the public. Public comments will be heard at 11 a.m.

FOR FURTHER INFORMATION CONTACT: Nancy Haug, BLM Northern California District manager, (530) 221-1743; or BLM Public Affairs Officer Joseph J. Fontana, (530) 252-5332.

SUPPLEMENTARY INFORMATION: The 15-member council advises the Secretary of the Interior, through the BLM, on a variety of planning and management issues associated with public land management in Northeast California and the northwest corner of Nevada. At this meeting, agenda topics an update on the proposed Kramer Ranch land exchange, a status report on alternative energy development proposals, an update on American Reinvestment and Recovery Act projects, a discussion of a sage-grouse translocation project, and updates from managers of the BLM Alturas, Eagle Lake and Surprise field offices. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: August 10, 2009.
Joseph J. Fontana,
Public Affairs Officer.

[FR Doc. E9-19756 Filed 8-17-09; 8:45 am]

BILLING CODE 4310-40-P